DEPARTMENT OF TRANSPORTATION

National Highway Traffic Safety Administration

[U.S. DOT Docket No. NHTSA-2002-12499]

National and State Surveys of Alcohol Targets of Opportunity

ACTION: Notice and request for public comment on proposed collection of information.

SUMMARY: The National Highway Traffic Safety Administration (NHTSA) has a central role in the national effort to reduce motor vehicle related traffic injuries and deaths. A core priority of NHTSA is to reduce the number of alcohol-related fatalities. Since 1999, several states were awarded cooperative agreements by NHTSA to demonstrate and evaluate the effectiveness of traffic safety programs that combine increased law enforcement efforts with enhanced publicity. These states were selected because of their potential for reducing the substantial number or percentage of alcohol-related fatalities occurring each year within their state. During the next few years NHTSA will be supporting additional state programmatic efforts to reduce the number of alcohol-related crashes. One means of determining whether these programs are successful is to conduct periodic telephone surveys of the public both prior to and after program implementation to assess changes in drivers' attitudes and behavior regarding drinking and driving after drinking. It would also be anticipated that states implementing such programs should show larger and more positive changes in attitudes and behavior as compared to a national sample of drivers. Under procedures established by the Paperwork Reduction Act of 1995, NHTSA invites the general public and Federal Agencies to comment on the need for the proposed data collection, the types of questions respondents should be asked, ways to enhance the quality of the collection, and ways to minimize the burden on respondents.

DATES: Comments must be received on or before September 16, 2002.

ADDRESSES: Direct all written comments to US DOT, Docket Management Facility, Docket Operations, Room PL-401, 400 Seventh Street, SW., Washington, DC 20590, Docket Number NHTSA-2002-12499. It is requested but not required that 2 copies of the comment be provided. The Docket section is open weekdays from 10 a.m. to 5 p.m.

FOR FURTHER INFORMATION CONTACT: Marvin Levy, Ph.D., Contracting Officer's Technical Representative, Office of Research and Traffic Records (NTS-31), Washington, DC 20590, e-mail mlevy@nhtsa.dot.gov.

SUPPLEMENTARY INFORMATION: Under the Paperwork Reduction Act of 1995, before an agency submits a proposed collection of information to OMB for approval, it must publish a document in the Federal Register providing for a 60-day comment period and otherwise consult with affected agencies and members of the public concerning each proposed collection of information.

The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methods and assumptions;

(iii) How to enhance the quality, utility, and clarity of the information to be collected; and

(iv) How to minimize the burden of the collection of information on those who are to respond, including the use of appropriate automated, electronic, mechanical, or other technological collection techniques or other forms of information technology, e.g., permitting electronic submission of responses.

In response to these requirements, NHTSA asks for public comment on the following collection of information:

National and State Surveys of Alcohol Targets of Opportunity

Type of Request: New information collection requirement.

OMB Clearance Number: None.

Form Number: This collection of information uses no standard forms.

Requested Expiration Date of Approval: June 30, 2005.

Summary of the Collection of Information

The National Highway Traffic Safety Administration (NHTSA) has a central role in the national effort to reduce motor vehicle related traffic injuries and deaths. A core priority of NHTSA is to reduce the number of alcohol-related fatalities. In support of this priority, since 1999, several states were awarded cooperative agreements by NHTSA to demonstrate and evaluate the effectiveness of traffic safety programs that combine increased law enforcement efforts with substantial publicity about these programs. These states were selected because of their potential for reducing the substantial number or percentage of alcohol-related fatalities occurring each year within their state. One means of determining whether these state programs were successful was to employ periodic telephone surveys of the public both prior to and after program implementation to assess changes in drivers' attitudes and behavior regarding drinking and driving after drinking. [OMB No. 2127-0605]

During the next few years NHTSA will be supporting additional state programmatic efforts to reduce the number of alcohol-related crashes. The objective of the current survey is to determine the extent to which target of opportunity programs impact the awareness, attitudes, and driving behavior of motorists. It is anticipated that changes in enforcement levels should be reflected by changes in driver awareness, attitudes and behavior. For example, a state that substantially increases their alcohol-enforcement activities and provides substantial publicity might expect that respondents report a greater degree of awareness of these efforts as compared to before the program began. It may be expected that respondents would report they came in contact with law enforcement more frequently and drive after drinking less often once the program began. In addition, the survey will provide information on driver awareness of specific enforcement techniques being used as well as data regarding ongoing alcohol media campaign(s). It also would be anticipated that states implementing such programs should show larger and more positive changes in attitudes and behavior as compared to a national sample of drivers. The information to be collected by this survey is not available to NHTSA through any other source.

Within each state, the survey will be administered in several waves (e.g., prior to the intervention effort, at the mid-point, and at the end the effort) by telephone to a probability sample of the driving age public (aged 16 years or older as of their last birthday). The national survey also will target the driving age public and will be conducted twice yearly for three years. Participation by respondents is strictly voluntary. The interview is anticipated to average 5 minutes in length. Interviewers will use computer-assisted telephone interviewing to reduce survey administration time and to minimize data collection errors. A Spanish-language questionnaire and bi-lingual interviewers will be used to reduce language barriers to participation. All respondents' results will remain anonymous and completely confidential. Participant names and telephone numbers used to reach the respondents are separated from the data records prior to its entry into the analytical database.

Description of the Need for and Proposed Use of the Information

In 2000, there were 16,792 alcohol-related traffic fatalities. This number represents approximately 40 percent of all traffic fatalities. Also, an estimated 310,000 persons were injured in crashes where police reported that alcohol was present—an average of one person injured approximately every two minutes. (Traffic Safety Facts: 2000, NHTSA-National Center for Statistics and Analysis). A recent NHTSA sponsored publication “The Economic Impact of Motor Vehicle Crashes,” reported that in 2000 alcohol related crashes was associated with more than 50 billion dollars in economic costs.

NHTSA is committed to the development of effective programs to reduce the incidence of these crashes. In 1999, NHTSA awarded cooperative agreements valued at approximately $1,000,000 each to five states—Pennsylvania, Georgia, Louisiana, Tennessee, and Texas. During the next few years, NHTSA will be supporting countermeasure efforts to reduce these types of crashes in additional states. Each of these states will be responsible for implementing an enforcement and publicity program. Data to be collected include number and type of police stops made, and changes in alcohol-related violations and crashes.

In order to reduce the work requirements for each state and to create sets of survey data that may be compared among the states, one or more separate awards will be made to survey firms having expertise in conducting random telephone surveys. Thus, the survey data to be collected comprise only one part of the entire data set that will be assessed.

The entire data set will be used to properly plan and evaluate new enforcement programs directed at reducing the occurrence of alcohol-impaired driving. States found to have implemented effective programs to reduce the driving after drinking problem shall prepare materials that highlight the major features of their programs. These materials will be disseminated among states that want to implement an improved alcohol-enforcement program.

The findings from this proposed data collection will assist NHTSA in addressing the problem of alcohol-impaired driving and in formulating programs and recommendations to Congress. NHTSA will use the findings to help focus current programs and activities to achieve the greatest benefit, to develop new programs to decrease the likelihood of drinking and driving behaviors, and to provide data in support of states, localities, and law enforcement agencies that will aid them in their efforts to reduce drinking and driving crashes and injuries.

It should be noted that during the past decade NHTSA has conducted surveys on drinking and driving attitudes and behavior. Most of these were obtained biannually from nationally represented samples and most of these were conducted years ago and cannot be used within the context of the present study. Some of the survey data were collected within the past year but these data will not be contemporaneous will future state surveys dealing with enforcement and publicity activities.

Description of the Likely Respondents (Including Estimated Number, and Proposed Frequency of Response to the Collection of Information)

Under this proposed collection, a telephone interview averaging approximately 5 minutes in length would be administered to each of 500 randomly selected members of the general public age 16 and older, nationally and for each state supported by this study. The national survey will be conducted six times over the three-year data collection period for a total of 3,000 respondents. State surveys will also be conducted over a three-year period. It is anticipated that three waves will be conducted in each state for a total of 1500 respondents per state and up to 50 states will be surveyed for a total of 75,000 respondents. Interview will be conducted with persons at residential phone numbers selected using random digit dialing. No more than one respondent per household will be selected, and each sample member will complete just one interview. Businesses are ineligible for the sample and would be not be interviewed. After each wave is completed and the data analyzed, the findings will be disseminated to each state for review.

Estimate of the Total Annual Reporting and Record Keeping Burden Resulting From the Collection of Information

NHTSA estimates that respondents in the sample would require an average of 5 minutes to complete the telephone interview. Thus, the number of estimated reporting burden on the general public would be a total of 6500 hours for the national and state surveys or 2166.7 hours per year. The respondents would not incur any reporting or record keeping cost from the information collection.

Rose A. McMurray,
Associate Administrator, Office of Traffic Safety Programs.

[FR Doc. 02-17887 Filed 7-15-02; 8:45 am]

BILLING CODE 4910-59-P